DEPARTMENT OF TRANSPORTATION

Federal Aviation Administration

Noise Exposure Maps for Jack Northup/Hawthorne Municipal Airport, Hawthorne, Los Angeles County, California

AGENCY: Federal Aviation Administration, DOT.

ACTION: Notice of acceptance of Noise Exposure Maps.

SUMMARY: The Federal Aviation Administration (FAA) announces its determination that the noise exposure maps submitted by the City of Hawthorne for Jack Northup/Hawthorne Municipal Airport are in compliance with applicable requirements.

DATES: The effective date of the FAA's determination on the noise exposure maps is July 8, 2022.

FOR FURTHER INFORMATION CONTACT: David B. Kessler, AICP, Regional Environmental Protection Specialist, 777 South Aviation Boulevard, El Segundo, California 90045. Telephone 424-405-7315.

SUPPLEMENTARY INFORMATION: This notice announces that the FAA finds that the noise exposure maps submitted for Jack Northup/Hawthorne Municipal Airport are in compliance with applicable requirements, effective July 8, 2022. Under 49 U.S.C. 47503 of the Aviation Safety and Noise Abatement Act (hereinafter referred to as “the Act”), and Title 14, Code of Federal Regulations (CFR) part 150, an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of part 150, promulgated pursuant to the Act, may submit a noise compatibility program for FAA approval which sets forth the measures the operator has taken or proposes to take to reduce existing non-compatible uses and prevent the introduction of additional non-compatible uses.

The FAA has completed its review of the noise exposure maps and accompanying documentation submitted by the City of Hawthorne. The documentation that constitutes the “Noise Exposure Maps” as defined in section 150.7 of part 150 includes: the radar flight tracks (Chapter 2; Exhibit 2C); the existing and future consolidated arrival, departure, local and helicopter flight tracks (Chapter 2; Exhibits 2D, 2E, 2F); the 2020 Noise Exposure Map (Introduction, Exhibit 1) and 2025 Noise Exposure Map (Introduction, Exhibit 2), both depicting the runway location, airport boundaries, and location of noise sensitive public buildings over a land use map of a sufficient scale and quality to discern streets and other identifiable geographic features; the location of the noise monitoring sites (Chapter 2; Table 2H, Exhibit 2J); and the estimates of the number of people residing within the CNEL 65, 70, and 75 dB contours in 2020 and 2025 (Chapter 3; Table 3B, Table 3D). The FAA has determined that these noise exposure maps and accompanying documentation are in compliance with applicable requirements. This determination is effective on July 8, 2022.

FAA's determination on an airport operator's noise exposure maps is limited to a finding that the maps were developed in accordance with the procedures contained in Appendix A of part 150. Such determination does not constitute approval of the applicant's data, information or plans, or a commitment to approve a noise compatibility program or to fund the implementation of that program. If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of part 150, that the statutorily required consultation has been accomplished.

Copies of the full noise exposure map documentation and of the FAA's evaluation of the maps are available for examination online at https://hawthornenoise.airportstudy.net/ as well as the following locations:

Federal Aviation Administration, Los Angeles Airports District Office, 777 South Aviation Boulevard, Suite 150, El Segundo, California 90045

Hawthorne City Hall, 2nd Floor Engineering Department, 4455 West 126th Street, Hawthorne, California 90250

Hawthorne Airport Administration Office, 12101 Crenshaw Blvd. Suite #300, Hawthorne, California 90250

Questions may be directed to the individual named above under the heading FOR FURTHER INFORMATION CONTACT.

Issued in El Segundo, California, on July 8, 2022.
William C. Garrison,
Acting Director, Airports Division, Western-Pacific Region.

[FR Doc. 2022-15007 Filed 7-13-22; 8:45 am]

BILLING CODE 4910-13-P